ENVIRONMENTAL PROTECTION AGENCY

[EPA-HQ-OARM-2011-0997; FRL-9939-85-OEI]

Information Collection Request Submitted to OMB for Review and Approval; Comment Request; Recordkeeping and Reporting Related to Diesel Fuel Sold in 2001 and Later Years; Tax-Exempt (Dyed) Highway Diesel Fuel; and Non-Road Locomotive & Marine Diesel Fuel (Renewal)

AGENCY: Environmental Protection Agency (EPA).

ACTION: Notice.

SUMMARY: The Environmental Protection Agency has submitted an information collection request (ICR), “Recordkeeping and Reporting Related to Diesel Fuel Sold in 2001 & Later Years; for Tax-Exempt (Dyed) Highway Diesel Fuel; & Non-Road Locomotive & Marine Diesel Fuel” (EPA ICR No. 1718.10, OMB Control No. 2060-0308) to the Office of Management and Budget (OMB) for review and approval in accordance with the Paperwork Reduction Act (44 U.S.C. 3501 et seq.). This is a proposed extension of the ICR, which is currently approved through May 29, 2015. Public comments were previously requested via the Federal Register (80 FR 30677) on May 29, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 26, 2016.

ADDRESSES: Submit your comments, referencing Docket ID Number EPA-HQ-OAR-2007-1121, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 64106J, Environmental Protection Agency, 1200 Pennsylvania Ave. NW., Washington, DC 20460; telephone number: 202-343-9017; fax number: 202-565-2085; email address: heard.geanetta@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The EPA's diesel fuel regulations under 40 CFR part 80, subpart I, are applicable to highway (“motor vehicle” or “MV”) diesel fuel and non-road, locomotive and marine diesel fuel (NRLM) and heating oil (HO). Most of the information collected under this ICR is used to evaluate compliance with the requirements of the regulations. Since virtually all MV diesel fuel was required to meet a 15 part per million (ppm) standard as of June 1, 2010, very little reporting related to MV diesel fuel remains. However, reporting related to NRLM and HO will continue throughout the course of this proposed ICR renewal. The activities associated with this ICR include: Registration (all parties have registered; updates to existing registrations are still possible); compliance reports (mostly covering NRLM and HO; updates to prior compliance reports for MV diesel are still possible); research and development (R&D) exemptions; generation and retention of quality assurance (QA) records; foreign refiner recordkeeping and reporting; placement of PTD codes (a typically automated process, to indicate the presence of dye in tax-exempt fuel and/or sulfur content). This ICR renewal contains provisions related to qualification of laboratories on performance-based test methods. Virtually all applications have already been received from laboratories and acted upon by EPA.

Form Numbers: EPA Forms 5900-351, 5900-333, 5900-352, 5900-323, 5900-324, 5900-325, 5900-326, 5900-327, 5900-328, 5900-329, 5900-350, and 420-B-14-066a.

Respondents/affected entities: Refiners, importers, testing labs.

Respondent's obligation to respond: Mandatory (40 CFR part 80).

Estimated number of respondents: 5753 (total).

Frequency of response: Yearly and semiannually.

Total estimated burden: 11,078 hours (per year). Burden is defined at 5 CFR 1320.03(b).

Total estimated cost: $1,118,878 (per year), includes $0 annualized capital or operation & maintenance costs.

Changes in the Estimates: There is a decrease of 7,872 hours in the total estimated respondent burden compared with the ICR currently approved by OMB. This is due to the decreased number of reports required.

Courtney Kerwin,
Acting Director, Collection Strategies Division.

[FR Doc. 2016-01634 Filed 1-26-16; 8:45 am]

BILLING CODE 6560-50-P